DEPARTMENT OF HOMELAND SECURITY

Coast Guard

33 CFR Part 125

[USCG-2006-24189]

Maritime Identification Credentials

AGENCY: Coast Guard, DHS.

ACTION: Notice of acceptable identification credentials.

SUMMARY: This document informs the public that the Commandant of the Coast Guard is directing Coast Guard Captains of the Port to prevent access to waterfront facilities to persons that do not have appropriate identification credentials as defined under Coast Guard regulations. This document also identifies additional identification documents that have been approved by the Commandant as identification credentials.

DATES: This announcement is effective April 28, 2006.

ADDRESSES: Documents indicated in this preamble as being available in the docket are part of docket USCG-2006-24189 and are available for inspection or copying at the Docket Management Facility, U.S. Department of Transportation, room PL-401, 400 Seventh Street, SW., Washington, DC 20590-0001 between 9 a.m. and 5 p.m., Monday through Friday, except Federal holidays. They may also be viewed online at http://dms.dot.gov at any time. Conduct a simple search and enter in the last five digits of the docket number listed above.

FOR FURTHER INFORMATION CONTACT: If you have questions on this document, call James Bull, Coast Guard, telephone 202-267-1630. If you have questions on viewing material in the docket, call Renee V. Wright, Program Manager, Docket Operations, telephone 202-493-0402.

SUPPLEMENTARY INFORMATION:

Background and Purpose

Under the authority of 50 U.S.C. 191 and Coast Guard regulations (33 CFR part 125), the Coast Guard has the authority to require identification credentials for access to waterfront facilities and to port and harbor areas, including vessels and harbor craft in those areas. The Commandant of the Coast Guard, pursuant to 33 CFR 125.15(a), is authorized to direct, from time to time, the Captains of the Port (COTP) “to prevent access of persons who do not possess one or more of the identification credentials listed in § 125.09 to those waterfront facilities, and port and harbor areas, including vessels and harbor craft therein, where the following shipping activities are conducted: * * * [t]hose essential to the interests of national security and defense, to prevent loss, damage or injury, or to insure the observance of rights and obligations of the United States.”

On August 7, 2002, the Coast Guard published a “Clarification of Regulation” in the Federal Register at 67 FR 51082, which notified the public that the Coast Guard may soon begin requiring identification credentials from persons seeking access to waterfront facilities, areas within the port and harbor, and on vessels and harbor craft within such areas.

I have determined that it is necessary to inform the public of the identification credential requirement under 33 CFR 125.15(a) for all individuals seeking access to facilities regulated under 33 CFR part 105. These actions will improve national security by verifying maritime workers' identity, validating their background information, assisting transportation facilities in managing their security risks, and accounting for access of authorized personnel to transportation facilities and activities. This document announces to the public that, in accordance with my authority under 33 CFR 125.15, I am directing COTPs to prevent access to all facilities regulated under 33 CFR part 105 to persons who do not have an identification credential listed in 33 CFR 125.09 or such identification as I have approved below under 33 CFR 125.09(f).

The Coast Guard notes that it will not be issuing Port Security Cards at this time, and reaffirms that when the regulations implementing the Transportation Worker Identification Credential (TWIC) are issued, the Coast Guard will reevaluate this action.

A. Acceptable Identification Credentials

Acceptable forms of identification credentials under 33 CFR 125.09 include the following:

• A Merchant Mariner Document.

• An Armed Forces Identification Card.

• Federal law enforcement credentials.

• Identification credentials issued to public safety officers.

In addition, pursuant to my authority under 125.09(f), I approve as identification credentials the following forms of identification:

• For non-employees and employees of the facility, and longshoremen, a state-issued commercial driver's license with hazardous materials endorsement issued after May 31, 2005.

• For non-employees of the facility, excluding longshoremen, a state-issued driver's license or identification card or a personal identification issued by the individual's employer, union or trade association (33 CFR 101.515(b)(2)); or a passport or commercial drivers license issued by Canada or Mexico.

• For employees of the facility and longshoremen, facility-issued employee identification cards, a state-issued driver's license, or a personal identification issued by the individual's employer, union or trade association (33 CFR 101.515(b)(2)), provided the individual has been screened as outlined below and has not been determined a threat.

For the purposes of this action, “facility employees” include all permanent employees and long-term contractors. Contractors are considered to be long-term if they need regular access to the facility for a period in excess of 90 days.

As discussed below, TSA will analyze the relevant information before determining whether or not an employee or longshoreman poses or is suspected of posing a security threat warranting denial of access to the port facility. TSA will notify the facility and the COTP of persons that pose a security threat. Accordingly, those persons will not have approved identification credentials under 125.09(f) and must be denied access to part 105 facilities.

This action is necessary in the interests of national security and to protect these facilities from loss, damage, or injury.

B. Threat Assessment Screening of Facility Employees and Longshoremen

In order to accomplish screening, the facility operator or longshore union (union) will immediately, but not later than May 30, 2006, provide the following information from the union, facility operator's or long-term contractor's existing files to TSA for each facility employee or longshoreman seeking to use as an identification credential a facility-issued employee identification card, a state-issued driver's license, or personal identification issued by the individual's employer, union or trade association:

• Legal Name (Last, First, Middle, suffix).

• Date of birth (MonthDayYear, 12121970).

• Social Security number (optional, no dashes).

• Alien Identification number (if applicable).

Although the Coast Guard is providing up to 30 days for facility operators and longshore unions to provide the requested information, the COTP may contact the facility operator or union and request that such information be provided immediately.

This information must be contained in a spreadsheet and submitted via the Coast Guard's Homeport Web portal http://homeport.uscg.mil. For information about how to register in Homeport contact the COTP for details. If unable to access Homeport, the data may be submitted via a password-protected compact disk to Stephen Sadler, Director, Maritime and Surface Credentialing, Office of Transportation Threat Assessment and Credentialing—TSA-19, Transportation Security Administration, 601 South 12th Street, Arlington, VA 22202. When submitting the information listed above, please provide it in a password protected Excel spreadsheet and include a point of contact (POC) for the facility operator or union and contact information. TSA will contact the POC to obtain the password when it receives information through the mail. Prior to submitting the information listed above, facility operators or unions must notify the individuals on whom information is submitted of their intent to submit the above information for purposes of a security threat assessment, and notify these individuals that they may decline to provide their social security numbers, but that such action may result in delays or make it impossible to complete the assessment. If the port facility operator or Longshore union does not have the information listed above in its existing files and must collect the information directly from the individual, the following Privacy Act notice must be provided to that individual prior to collecting the information:

Privacy Act Notice

Authority: 49 U.S.C. 114, 50 U.S.C. 191, and 33 CFR part 125 and authorize the collection of this information.

Purpose: DHS will use this information to conduct a security threat assessment on port facility employees, port facility long-term contractors, and longshoremen.

Routine Uses: The information will be used by and disclosed to DHS personnel and contractors or other agents who need the information to assist in activities related to port security. Additionally, DHS may share the information with facility operators, Longshore unions, and law enforcement or other government agencies as necessary to respond to potential or actual threats to transportation security, or pursuant to its published Privacy Act system of records notice.

Disclosure: Furnishing this information is voluntary. However, failure to furnish the requested information may delay or prevent the completion of your security threat assessment, which may prevent your access to MTSA regulated facilities.

So as not to prejudice new employees or longshoremen who seek access to the facility using a facility-issued employee identification card, a state-issued driver's license, or a personal identification issued by the individual's employer, union or trade association (33 CFR 101.515(b)(2)) under this action (who will be barred from entry if not screened in a timely manner), facility operators or unions must provide, on a continuing basis, the above-listed information for all new facility employees or longshoremen in a timely manner using the mechanisms listed above. When submitting lists with information for new employees or longshoremen, do not include in the list any employee or longshoreman whose information has previously been submitted.

Threat assessment determinations of facility employees and longshoremen will be conducted by TSA pursuant to its authority to assess threats to transportation under 49 U.S.C. 114(f). For the majority of cases, these threat assessment determinations will be accomplished within 30 days of TSA's receipt of the information discussed above. While the assessment is being performed, personnel will continue to have access to the facility. Unless the facility operator or union receives a written document from TSA stating that TSA has made a threat assessment determination, as outlined below, that a particular facility employee or longshoreman poses a security threat, that individual may be permitted access to the port facility.

If TSA is unable to complete the threat assessment for a specific facility employee or longshoreman with the information initially provided, TSA will request additional information regarding that individual from the facility operator or union. A request for additional information regarding a specific facility employee or longshoreman is not a threat assessment determination; it is merely a request for more information. If TSA requests additional information regarding a specific individual from a facility operator or a union, the operator or union must provide the requested information to TSA within 5 business days.

TSA will examine various factors for the threat assessment of facility employees and longshoremen. TSA's examination will not include a criminal history records check. TSA will check immigration status in the course of the threat assessment evaluation. Facility employees and longshoremen must be a citizen of the United States, a lawful permanent resident of the United States as defined in 8 U.S.C. 1101, or hold an appropriate immigration status, as discussed below. Other acceptable immigration statuses include individuals who possess valid evidence of unrestricted employment and are in a lawful nonimmigrant status, are a refugee admitted under 8 U.S.C. 1137, or are an alien granted asylum under 8 U.S.C. 1158. When verifying immigration status, TSA checks relevant Federal databases and may perform other checks, including verifying the validity of the applicant's social security number or alien registration number.

Any facility employee or longshoreman identified as posing a security threat or as not having legal status under the immigration laws will not be permitted to enter or remain on a 33 CFR part 105 facility. To make such a determination, TSA will check various government databases. Upon checking the relevant databases, TSA will analyze the relevant information from Federal law enforcement and intelligence agencies before determining that a facility employee or longshoreman poses or is suspected of posing a security threat warranting denial of access to the port facility. As mentioned above, this will not include a criminal history records check.

Individuals identified as posing a security threat will receive an Initial Determination of Threat Assessment (hereinafter “Initial Determination”). An Initial Determination does not mean that an individual must be denied access to a facility. Individuals who believe that they have been wrongly identified as posing a security threat and believe they meet the standards for the security threat assessment have the opportunity to appeal an Initial Determination using the appeal procedures established for individuals denied a hazardous materials endorsement under TSA's regulations, which are set forth in 49 CFR 1572.141. If a facility employee or longshoreman fails to initiate an appeal within 30 days after receipt, the Initial Determination becomes final, and TSA serves a Final Determination of Threat Assessment upon the individual and notifies the facility or union and the COTP.

Facility employees or longshoremen believed to pose a security threat will receive a notice from the TSA that they will be denied access to part 105 facilities. Please note this notice will be called an Initial Determination of Threat Assessment and Immediate Revocation of Access Privileges (hereinafter “Immediate Revocation of Access Privileges”). The Immediate Revocation of Access Privileges will be sent to the individual with notification to the facility or union as well as the COTP at the same time to immediately deny that individual access to the facility. Facility employees or longshoremen wishing to appeal an Immediate Revocation of Access Privileges must follow the appeal procedures set forth in 49 CFR 1572.141(i). If that individual fails to initiate an appeal within 30 days after receipt, the Immediate Revocation of Access Privileges becomes final, and TSA serves a Final Determination of Threat Assessment upon the individual and notifies the facility or union as well as the COTP.

If a facility employee or longshoreman appeals the Initial Determination or the Immediate Revocation of Access Privileges, TSA will serve a Final Determination of Threat Assessment or a Withdrawal of the Initial Determination or Immediate Revocation of Access Privileges on that individual and notify the facility or union, and the COTP.

TSA will notify the facility and the COTP of which facility employees or longshoremen who must be denied access to part 105 facilities. The Coast Guard will make available to facilities a list of longshoremen who have been vetted for each port. Access is limited to only those persons who are authorized. Facilities will be subject to Coast Guard examinations to verify that they are complying with the requirements of 33 CFR part 125, as implemented by this document.

This requirement does not prohibit a facility owner or operator from imposing additional requirements above these minimums.

The additional screening provision for specific types of identification credentials, as listed above, is only being used for facility employee and longshoreman credentials at this time because of their regular and constant access to the facility and their knowledge of its operations, as opposed to the infrequent access by other port workers. We continue to view the TWIC as the ultimate solution to the access credential issue.

Persons seeking additional information on this announcement or its enforcement may contact the person listed in the FOR FURTHER INFORMATION CONTACT section of this document. Further information regarding the threat assessments conducted by TSA is provided in the Privacy Impact Assessment for U.S. Port Access Threat Assessments, available on the Department of Homeland Security Web site at: http://www.dhs.gov/dhspublic/interapp/editorial/editorial_0511.xml.

As required by the Paperwork Reduction Act of 1995 (44 U.S.C. 3507(d)), we submitted a copy of this notice to the Office of Management and Budget (OMB) for its review of the collection of information. Due to the circumstances surrounding this notice, we asked for “emergency processing” of our request. We received OMB approval for the collection of information on April 24, 2006. It has been given OMB control number 1625-0110. It is valid through October 31, 2006.

Dated: April 25, 2006.
Terry M. Cross,
Vice Admiral, U.S. Coast Guard, Acting Commandant.

[FR Doc. 06-4026 Filed 4-25-06; 2:26 pm]

BILLING CODE 4910-15-P